DEPARTMENT OF HEALTH AND HUMAN SERVICES

Substance Abuse and Mental Health Services Administration

Center for Substance Abuse Prevention; Notice of Meeting

Pursuant to Public Law 92-463, notice is hereby given of the meeting of the Center for Substance Abuse Prevention (CSAP) National Advisory Council in May 2000.

The meeting will be open and will include a presentations of CSAP's Director's Report, updates on CSAP's programs and budget, discussions of administrative matters and announcements. Public comments are welcome during the open session. Please communicate with the individual listed as contact below for guidance. If anyone needs special accommodations for persons with disabilities please notify the contact listed below.

A summary of this meeting and roster of committee members may be obtained from Yuth Nimit, Executive Secretary, Rockwall II building, Suite 901, 5600 Fishers Lane, Rockville, Maryland 20857, Telephone: (301) 443-8455.

Substantive program information may be obtained from the person whose name and telephone number is listed above.

Committee Name: Center for Substance Abuse Prevention, National Advisory Council.

Meeting Date: May 12, 2000.

Place: Bethesda Marriott Pooks Hill Hotel, 5151 Pooks Hill Road, Bethesda, Maryland 20814.

Contact: Yuth Nimit, 5515 Security Lane, Rockwall II Building, Suite 901, Rockville, Maryland 20852, Telephone: (301) 443-8455 and fax: (301) 443-6394.

Dated: April 18, 2000.
Toian Vaughn,
Committee Management Officer, Substance Abuse and Mental Health Services Administration.

[FR Doc. 00-10362 Filed 4-25-00; 8:45 am]

BILLING CODE 4162-20-M